DEPARTMENT OF JUSTICE

Antitrust Division

Notice Pursuant to the National Cooperative Research and Production Act of 1993—Allseen Alliance, Inc.

Notice is hereby given that, on November 24, 2014, pursuant to Section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, Sony Corporation, Tokyo, JAPAN; Microfactory, Inc., Louisville, KY; Innopia Technologies, Inc., Seongnam, Gyeonggi, REPUBLIC OF KOREA; Smartlabs, Inc., Irvine, CA; Devon alli, Atlanta, GA; M2Communicaton, Inc., Taiwan, PEOPLE'S REPUBLIC OF CHINA; ADT Security Services, Boca Raton, FL; MobilityLab LLC, Moscow, RUSSIA; Organic Response Pty Ltd., Richmond, Victoria, AUSTRALIA; Quanta Computer Inc., Kuei Shan, Tao Yuan, TAIWAN; NETGEAR, Inc., San Jose, CA; Things.Expert LLC, Doral, FL; dog hunter LLC, Boston, MA; Shenzhen Fenglian Technology Co., Ltd., Shenzhen, PEOPLE'S REPUBLIC OF CHINA; Verisign, Inc., Reston, VA; ForgeRock Inc., San Francisco, CA; Lenovo (Bejing), Beijing, PEOPLE'S REPUBLIC OF CHINA; Resin, Inc., San Francisco, CA; and Inteno Broadband Technology AB, Hagersten, SWEDEN, have been added as parties to this venture.

No other changes have been made in either the membership or planned activity of the group research project. Membership in this group research project remains open, and AllSeen Alliance intends to file additional written notifications disclosing all changes in membership.

On January 29, 2014, AllSeen Alliance filed its original notification pursuant to Section 6(a) of the Act. The Department of Justice published a notice in the Federal Register pursuant to Section 6(b) of the Act on March 4, 2014 (79 FR 12223).

The last notification was filed with the Department on September 2, 2014. A notice was published in the Federal Register pursuant to Section 6(b) of the Act on September 30, 2014 (79 FR 58805).

Patricia A. Brink,
Director of Civil Enforcement, Antitrust Division.

[FR Doc. 2014-30040 Filed 12-22-14; 8:45 am]

BILLING CODE P